DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before November 6, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC or at http://regulations.gov.

This notice of receipt of applications for special permit is published in accordance with part 107 of the Federal hazardous materials transportation law (49 U.S.C. 5117(b); 49 CFR 1.53(b)).

Issued in Washington, DC, on October 5, 2023.
Donald P. Burger,
Chief, General Approvals and Permits Branch.

Application No. | Applicant | Regulation(s) affected | Nature of the special permits thereof
Special Permits Data
11818-M | Raytheon Company | 172.101(j), 172.101(j)(1), 173.301(f), 173.302a(a)(1), 173.304a(a)(2) | To modify the special permit to authorize additional packaging. (modes 1, 3, 4).
12303-M | Halliburton Energy Services, Inc | 173.201, 173.301(f), 173.302a, 173.304a | To modify the special permit to authorize an additional cylinder design. (modes 1, 2, 3, 4).
15980-M | Windward Aviation Inc |  | To modify the special permit to exempt shipments from 49 CFR 172.400 and from 49 CFR 175.33. (mode 4).
20245-M | Jaguar Instruments Inc | 173.302(a), 173.304(a) | To modify the special permit to authorize a cylinder with an increased length. (modes 1, 2, 3, 4).
20500-M | California Department of Toxic Substances Control |  | To modify the special permit to authorize use in all natural disaster areas. (mode 1).
20527-M | Procyon-alpha Squared, Inc |  | To modify the special permit to authorize rail as a mode of transportation. (modes 1, 2, 3).
21018-M | Packaging And Crating Technologies, LLC |  | To modify the special permit to authorize additional packagings. (modes 1, 2, 3).
21139-M | KULR Technology Corporation | 172.600, 172.200, 172.300, 172.700(a), 172.400, 172.500, 173.185(b) | To modify the special permit to authorize an alternative shipping document, to remove the reference to ferry vessel operations, and to clarify the requirement in paragraph 7.b.(2). (modes 1, 2, 3).
21463-M | Mission Systems Orchard Park Inc | 173.302a(a)(1) | To modify the special permit to authorize a larger volume cylinder. (modes 1, 2, 3, 4, 5).
21521-M | Honda Motor Co., Ltd |  | To modify the special permit to authorize the COPVs to be shipped in an additional outer packaging. (modes 1, 2, 3, 4).

[FR Doc. 2023-23154 Filed 10-19-23; 8:45 am]

BILLING CODE P